DEPARTMENT OF DEFENSE

Department of the Air Force

Notice of Availability of Federally-Owned Inventions

Pursuant to the provisions of Part 404 of Title 37, Code of Federal Regulations, which implements Pub. L. 96-517, the Department of the Air Force announces the availability of certain Air Force-owned inventions. The following patent applications Apparatus and Method to Detect Corrosion in Metal Junctions (Patent Application No. 09/450,959) and Apparatus and Method for Detecting Conduit Chafing (Patent Application No. 09/334,122) are available for Nonexclusive or Exclusive Licensing from the Air Force Research Laboratory (AFRL/IF) at Rome, New York. Additional information concerning the inventions is available upon request.

All communications concerning this Notice should be sent to Dr. Harold L. Burstyn, Patent Attorney, 26 Electronic Parkway, Rome, NY 13441-4514, (315) 330-2087, e-mail: Harold.Burstyn@rl.af.mil, or fax to (315) 330-7583.

Janet A. Long,
Air Force Federal Register Liaison Officer.

[FR Doc. 00-1977 Filed 1-26-00; 8:45 am]

BILLING CODE 5001-05-U